COMMITTEE FOR PURCHASE FROM PEOPLE WHO ARE BLIND OR SEVERELY DISABLED

Procurement List; Proposed Addition

AGENCY: Committee for Purchase From People Who Are Blind or Severely Disabled.

ACTION: Proposed additions to the procurement list.

SUMMARY: The Committee is proposing to add product(s) to the Procurement List that will be furnished by nonprofit agencies employing persons who are blind or have other severe disabilities.

DATES: Comments must be received on or before: June 26, 2022.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) are proposed for addition to the Procurement List for production by the nonprofit agencies listed:

Product(s)

NSN(s)—Product Name(s):

MR 16950—Assorted Safety Pins, 50 Piece

MR 16951—Thread Spool, Black and White, 2 Piece

MR 16952—Thread Spool, Black

MR 16953—Thread Spool, White

MR 16954—Fabric Glue, ¾ Ounce

MR 16955—Heavy Fabric Needles, 7 Piece

MR 16956—Iron-On Patches, 8 Piece

MR 16957—FixIt Tape Strips, 40 Piece

MR 16958—Fabric Scissors, 8.5″

MR 16959—Seam Ripper & Tape Measure

MR 16960—Sew Quick Threaded Needles, 13-Piece

MR 16961—Survival Sewing Kit, 64-Piece

MR 16962—Hook and Loop (HNL) Tape, 18″, Black

MR 16963—Hook and Loop (HNL) Tape, 18″, White

Designated Source of Supply: Association for Vision Rehabilitation and Employment, Inc., Binghamton, NY

Mandatory For: The requirements of military commissaries and exchanges in accordance with the 41 CFR 51-6.4

Contracting Activity: Military Resale-Defense Commissary Agency

Distribution: C-List

Michael R. Jurkowski,
Acting Director, PL Operations.

[FR Doc. 2022-11403 Filed 5-26-22; 8:45 am]

BILLING CODE 6353-01-P